DEPARTMENT OF COMMERCE

International Trade Administration

[A-588-840]

Engineered Process Gas Turbo-Compressor Systems from Japan: Final Results of Five-Year (“Sunset”) Review and Revocation of Antidumping Duty Order.

AGENCY: Import Administration, International Trade Administration, Department of Commerce.

ACTION: Notice of final results and revocation of antidumping duty order on engineered process gas turbo-compressor systems from Japan.

SUMMARY: On May 1, 2002, the Department of Commerce (“the Department”) initiated a sunset review of the antidumping duty order on engineered process gas turbo-compressor systems from Japan (67 FR 21632). Because no domestic interested party responded to the sunset review notice of initiation by the applicable deadline, the Department is revoking this antidumping duty order.

EFFECTIVE DATE: June 16, 2002

FOR FURTHER INFORMATION CONTACT: Amir R. Eftekhari or James P. Maeder, Office of Policy, Import Administration, International Trade Administration, U.S. Department of Commerce, 14th Street and Constitution Avenue, NW, Washington, D.C. 20230; telephone: (202) 482-5331 or (202) 482-3330, respectively.

SUPPLEMENTARY INFORMATION:

The Applicable Statue

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR part 351 (2001).

Background

On June 16, 1997, the Department issued an antidumping duty order on engineered process gas turbo-compressor systems from Japan. Pursuant to section 751(c) of the Act, the Department initiated a sunset review of this order by publishing a notice of the initiation in the Federal Register, 67 FR 21632 (May 1, 2002). In addition, as a courtesy to interested parties, the Department sent letters, via certified and registered mail, to each party listed on the Department's most current service list for this proceeding to inform them of the automatic initiation of the sunset review of this order.

Because the Department did not receive a response from any domestic interested party to the sunset review notice of initiation by the applicable deadline, May 16, 2002, the Department notified the International Trade Commission on May 24, 2002, that it intended to issue a final determination revoking this antidumping duty order.

Determination to Revoke

Pursuant to section 751(c)(3)(A) of the Act and 19 CFR 351.218(d)(1)(iii)(B)(3) of the Sunset Regulations, if no domestic interested party responds to the notice of initiation, the Department shall issue a final determination, within 90 days after the initiation of the sunset review, revoking the order or terminating the suspended investigation. Because no domestic interested party filed a response to the notice of initiation, the Department finds that no domestic interested party is participating in this review, and it is revoking this antidumping duty order.

Effective Date of Revocation

Pursuant to sections 751(c)(3)(A) and 751(d)(2) of the Act and 19 CFR 351.222(i)(2)(i), the Department will instruct the Customs Service to terminate the suspension of liquidation of the merchandise subject to this order entered, or withdrawn from warehouse, on or after June 16, 2002. Entries of subject merchandise prior to the effective date of revocation will continue to be subject to suspension of liquidation. The Department will complete any pending administrative reviews of this order and will conduct administrative reviews of subject merchandise entered prior to the effective date of revocation in response to appropriately filed requests for review.

Dated: June 6, 2002
Faryar Shirzad,
Assistant Secretary for Import Administration.

[FR Doc. 02-14830 Filed 6-11-02; 8:45 am]

BILLING CODE 3510-DS-S